DEPARTMENT OF THE INTERIOR

Bureau of Land Management

[LLNVS00000 L58530000.ER0000 241A; N-94234; 10-08807; MO #4500090193; TAS:14X5232]

Notice of Realty Action: Classification for Lease and Subsequent Conveyance for Recreation and Public Purposes of Public Lands (N-94234) for a Park in the Southwest Portion of the Las Vegas Valley, Clark County, NV

AGENCY: Bureau of Land Management, Interior.

ACTION: Notice.

SUMMARY: The Bureau of Land Management (BLM) has examined and found suitable for classification for lease and subsequent conveyance under the provisions of the Taylor Grazing Act and the Recreation and Public Purposes (R&PP) Act, as amended, approximately 15 acres of public land in the Las Vegas Valley, Clark County, Nevada. Clark County proposes to use the land for a community park. The 15-acre park will help meet future expanding needs in the southwestern part of Las Vegas Valley.

DATES: Interested parties may submit written comments regarding the proposed classification for lease and conveyance of the land until May 23, 2016.

ADDRESSES: Mail written comments to the BLM Field Manager, Las Vegas Field Office, 4701 N. Torrey Pines Drive, Las Vegas, Nevada 89130.

FOR FURTHER INFORMATION CONTACT: Luis Rodriguez, (702) 515-5069, email: lrodriguez@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The parcel of land is located southwest of the intersection of Wigwam Avenue and Torrey Pines Drive and is legally described as:

Mount Diablo Meridian, Nevada

T. 22 S., R. 60 E.,

Sec. 14, NW¼NE¼SW¼ and E½NE¼NW¼SW¼.

The area described contains 15 acres, more or less, in Clark County.

In accordance with the R&PP Act, Clark County has filed an application to develop the above-described land as a community park with covered play structures, restrooms, parking, picnic pavilions, open turf areas, walking path, basketball courts, landscaping, lighting signage, and other ancillary amenities. Additional detailed information pertaining to this application, plan of development, and site plan is located in case file N-94234, which is available for review at the BLM Las Vegas Field Office at the above address.

Clark County is a political subdivision of the State of Nevada; and is therefore, a qualified applicant under the R&PP Act.

Subject to limitations prescribed by law and regulation, prior to patent issuance, the holder of any right-of-way grant within the lease area may be given the opportunity to amend the right-of-way grant for conversion to a new term, including perpetuity, if applicable.

The land identified is not needed for any Federal purpose. The lease and/or conveyance is consistent with the BLM Las Vegas Resource Management Plan dated October 5, 1998, and would be in the public interest. Clark County has not applied for more than the 640-acre limitation for public purpose uses in a year and has submitted a statement in compliance with the regulations at 43 CFR 2741.4(b).

The lease and conveyance, when issued, will be subject to the provisions of the R&PP Act and applicable regulations of the Secretary of the Interior, and will contain the following reservations to the United States:

1. A right-of-way thereon for ditches or canals constructed by the authority of the United States, Act of August 30, 1890 (43 U.S.C. 945); and

2. All minerals shall be reserved to the United States, together with the right to prospect for, mine, and remove such deposits from the same under applicable law and such regulations as the Secretary of the Interior may prescribe.

Any lease and conveyance will also be subject to valid existing rights, will contain any terms or conditions required by law (including, but not limited to, any terms or conditions required by 43 CFR 2741.4), and will contain an appropriate indemnification clause protecting the United States from claims arising out of the lessee's/patentee's use, occupancy, or operations on the leased/patented lands. It will also contain any other terms and conditions deemed necessary and appropriate by the Authorized Officer.

Any lease and conveyance will also be subject to all valid and existing rights.

Upon publication of this notice in the Federal Register, the land described above will be segregated from all other forms of appropriation under the public land laws, including the general mining laws, except for lease and conveyance under the R&PP Act, leasing under the mineral leasing laws, and disposals under the mineral material disposal laws.

Interested parties may submit written comments on the suitability of the land for a public park in the Enterprise area. Comments on the classification are restricted to whether the land is physically suited for the proposal, whether the use will maximize the future use or uses of the land, whether the use is consistent with local planning and zoning, or if the use is consistent with State and Federal programs. Interested parties may also submit written comments regarding the specific use proposed in the application and plan of development, and whether the BLM followed proper administrative procedures in reaching the decision to lease and convey under the R&PP Act.

Before including your address, phone number, email address, or other personal identifying information in your comment, you should be aware that your entire comment—including your personal identifying information—may be made publicly available at any time. While you can ask us in your comment to withhold your personal identifying information from public review, we cannot guarantee that we will be able to do so. Only written comments submitted to the Field Manager, BLM Las Vegas Field Office, will be considered properly filed. Any adverse comments will be reviewed by the BLM Nevada State Director, who may sustain, vacate, or modify this realty action.

In the absence of any adverse comments, the decision will become effective on June 7, 2016. The lands will not be available for lease and conveyance until after the decision becomes effective.

Authority: 43 CFR 2741.5.

Frederick Marcell,
Acting Assistant Field Manager, Division of Lands, Las Vegas Field Office.

[FR Doc. 2016-08187 Filed 4-7-16; 8:45 am]

BILLING CODE 4310-HC-P